OFFICE OF PERSONNEL MANAGEMENT

Submission for review: Presidential Management Fellows (PMF) Application, 3206-0082

AGENCY: U.S. Office of Personnel Management.

ACTION: 60-day notice and request for comments.

SUMMARY: The Office of Personnel Management (OPM) offers the general public and other Federal agencies the opportunity to comment on a revised information collection request (ICR) 3206-0082, Presidential Management Fellows (PMF) Application. As required by the Paperwork Reduction Act of 1995 (Pub. L. 104-13, 44 U.S.C. chapter 35), as amended by the Clinger-Cohen Act (Pub. L. 104-106), OPM is soliciting comments for this collection on behalf of the Office of Management and Budget. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 27, 2012. This process is conducted in accordance with 5 CFR 1320.1.

ADDRESSES: Interested persons are invited to submit written comments on the proposed information collection to the U.S. Office of Personnel Management, Attention: Juanita Wheeler, 1900 E Street NW., Room 1425, Washington, DC 20415, or sent via electronic mail to pmf@opm.gov.

FOR FURTHER INFORMATION CONTACT: A copy of this ICR, with applicable supporting documentation, may be obtained by contacting the U.S. Office of Personnel Management, Attention: Juanita Wheeler, 1900 E Street NW., Room 1425, Washington, DC 20415, or sent via electronic mail to pmf@opm.gov.

SUPPLEMENTARY INFORMATION: Executive Order 13562, Recruiting and Hiring Students and Recent Graduates, and implementing regulations increased the applicant window of eligibility and removed the school nomination requirement. Students seeking advanced degrees and those who completed an advanced degree within the previous two years will use the application to apply for the Presidential Management Fellows Program. They will no longer be required to have a school nomination. OPM expects this will increase the number of applicants from years past. Information on the PMF Program can be found at www.pmf.gov.

Analysis

Agency: Employee Services, U.S. Office of Personnel Management.

Title: Presidential Management Fellows (PMF) Application.

OMB Number: 3206-0082.

Affected Public: Current graduate students and individuals who obtained an advanced degree within the previous two years.

Number of Respondents: 25,000.

Estimated Time per Respondent: 13 minutes.

Total Burden Hours: 5417 hours.

U.S. Office of Personnel Management.
John Berry,
Director.

[FR Doc. 2012-15850 Filed 6-27-12; 8:45 am]

BILLING CODE 6325-38-P